DEPARTMENT OF TRANSPORTATION

Office of the Secretary

14 CFR Part 399

[Docket No. DOT-OST-2017-0007]

RIN 2105-AE56

Transparency of Airline Ancillary Service Fees

AGENCY: Office of the Secretary (OST), U.S. Department of Transportation (DOT).

ACTION: Suspension of comment period.

SUMMARY: The DOT is suspending the public comment period for the supplemental notice of proposed rulemaking (SNPRM) on Transparency of Airline Ancillary Service Fees. The DOT published the SNPRM on January 19, 2017, and the comment period was scheduled to close on March 20, 2017. The suspension of the comment period will allow the President's appointees the opportunity to review and consider this action.

DATES: The comment period for the SNPRM published January 19, 2017 (82 FR 7536) is indefinitely suspended effective March 14, 2017.

ADDRESSES: Docket: For access to the docket to read background documents and comments received, go to http://www.regulations.gov or to the street address listed above. Follow the online instructions for accessing the docket.

FOR FURTHER INFORMATION CONTACT: Kimberly Graber or Blane A. Workie, Office of the Assistant General Counsel for Aviation Enforcement and Proceedings, U.S. Department of Transportation, 1200 New Jersey Ave. SE., Washington, DC 20590, 202-366-9342 (phone), kimberly.graber@dot.gov or blane.workie@dot.gov (email).

Issued this 2nd day of March 2017, in Washington, DC.
Judith S. Kaleta,
Deputy General Counsel.

[FR Doc. 2017-04674 Filed 3-13-17; 8:45 am]

BILLING CODE 4910-9X-P